SECURITIES AND EXCHANGE COMMISSION

[Investment Company Act Release No. 34779; File No. 812-15248]

PCM Fund, Inc., et al.

December 19, 2022.

AGENCY: Securities and Exchange Commission (“Commission” or “SEC”).

ACTION: Notice.

Notice of application for an order under sections 17(d) and 57(i) of the Investment Company Act of 1940 (the “Act”) and rule 17d-1 under the Act to permit certain joint transactions otherwise prohibited by sections 17(d) and 57(a)(4) of the Act and rule 17d-1 under the Act.

Summary of Application: Applicants request an order to permit certain business development companies and closed-end management investment companies to co-invest in portfolio companies with each other and with certain affiliated investment entities.

Applicants: PCM Fund, Inc., PIMCO Corporate & Income Opportunity Fund, PIMCO Corporate & Income Strategy Fund, PIMCO Dynamic Income Fund, PIMCO Dynamic Income Opportunities Fund, PIMCO Energy and Tactical Credit Opportunities Fund, PIMCO Global StocksPLUS® & Income Fund, PIMCO High Income Fund, PIMCO Income Strategy Fund, PIMCO Income Strategy Fund II, PIMCO Strategic Income Fund, Inc., PIMCO Access Income Fund, PIMCO California Municipal Income Fund, PIMCO California Municipal Income Fund II, PIMCO California Municipal Income Fund III, PIMCO Municipal Income Fund, PIMCO Municipal Income Fund II, PIMCO Municipal Income Fund III, PIMCO New York Municipal Income Fund, PIMCO New York Municipal Income Fund II, PIMCO New York Municipal Income Fund III, PIMCO Flexible Credit Income Fund, PIMCO Flexible Municipal Income Fund, PIMCO Flexible Emerging Markets Income Fund, PIMCO Flexible Real Estate Income Fund, PIMCO California Flexible Municipal Income Fund, PIMCO Capital Solutions BDC Corp., PIMCO BRAVO Fund III, L.P., LVS III Holding LP, PIMCO BRAVO Fund IV, L.P., LVS IV Holding SP LP, LVS IV Holding LP, PIMCO Real Estate Opportunities Fund, L.P., PIMCO Commercial Real Estate Debt Fund, L.P., PIMCO Commercial Real Estate Debt Fund II, L.P., PIMCO Corporate Opportunities Fund III, L.P., PIMCO Corporate Opportunities Fund IV, L.P., OC III Holding LP, PIMCO Private Income Fund LP, PIMCO Tactical Opportunities Master Fund Ltd., PIMCO Horseshoe Fund, LP, PIMCO Red Stick Fund, L.P., PIMCO Distressed Senior Credit Opportunities Fund II, L.P., PIMCO Disco Fund III LP, PIMCO Residential Opportunities Fund, L.P., PHFS Residential Opportunities Offshore Fund, L.P., PIMCO OP Trust Flexible Credit Fund, L.P., PIMCO Flexible Credit Master Fund, L.P., PIMCO ILS Series SPC, on behalf of and for the Account of PIMCO ILS Fund I, PIMCO ILS Series SPC, on behalf of and for the Account of PIMCO ILS Fund II, PIMCO Global Credit Opportunity Master Fund LDC, PIMCO Absolute Return Strategy 3 Master Fund LDC, PIMCO Absolute Return Strategy 3D Offshore Fund LTD., PIMCO Absolute Return Strategy 3E Master Fund LDC, PIMCO Absolute Return Strategy IV Master Fund LDC, PIMCO Absolute Return Strategy IV IDF LLC, PIMCO Absolute Return Strategy IV eFund, PIMCO Absolute Return Strategy V Master Fund LDC, PIMCO Mortgage Investment Trust, INC., PIMCO Private Diversified Lending Fund Private Sleeve LP, PIF II Offshore I LTD, PAF LUX SCA, SICAV-RAIF, PIMCO Disco Contingent Capital Fund Series I LP, PIMCO European Data Centre Opportunity Fund, SCSP, PIMCO Commercial Real Estate Lending Europe Fund SCSP, PIMCO Corporate Opportunities Fund IV LUX, SCSP, DCCF SPV 1 Series 1 LP, DCCF SPV 1 Cayman Series 1 LTD, PIMCO Specialty Finance Income Fund, L.P., SFI Offshore 1 LTD, PIMCO Elysian Park Fund, L.P., PIMCO CLO Opportunities Fund II, L.P., PIMCO Investments LLC, Pacific Investment Management Company LLC.

Filing Dates: The application was filed on July 20, 2021, and amended on March 3, 2022, August 29, 2022 and November 29, 2022.

Hearing or Notification of Hearing: An order granting the requested relief will be issued unless the Commission orders a hearing. Interested persons may request a hearing on any application by emailing the Commission's Secretary at Secretarys-Office@sec.gov and serving the Applicants with a copy of the request by email, if an email address is listed for the relevant Applicant below, or personally or by mail, if a physical address is listed for the relevant Applicant below. Hearing requests should be received by the Commission by 5:30 p.m. on January 13, 2023, and should be accompanied by proof of service on the Applicants, in the form of an affidavit, or, for lawyers, a certificate of service. Pursuant to rule 0-5 under the Act, hearing requests should state the nature of the writer's interest, any facts bearing upon the desirability of a hearing on the matter, the reason for the request, and the issues contested. Persons who wish to be notified of a hearing may request notification by emailing the Commission's Secretary at Secretarys-Office@sec.gov.

ADDRESSES: The Commission: Secretarys-Office@sec.gov. Applicants: David C. Sullivan, Ropes & Gray LLP, David.sullivan@ropesgray.com and Michael G. Doherty, Ropes & Gray LLP, Michael.doherty@ropesgray.com.

FOR FURTHER INFORMATION CONTACT: Barbara T. Heussler, Senior Counsel, or Trace W. Rakestraw, Branch Chief, at (202) 551-6825 (Division of Investment Management, Chief Counsel's Office).

SUPPLEMENTARY INFORMATION: For Applicants' representations, legal analysis, and conditions, please refer to Applicants' third amended and restated application, dated November 29, 2022, which may be obtained via the Commission's website by searching for the file number at the top of this document, or for an Applicant using the Company name search field on the SEC's EDGAR system. The SEC's EDGAR system may be searched at, http://www.sec.gov/edgar/searchedgar/legacy/companysearch.html. You may also call the SEC's Public Reference Room at (202) 551-8090.

For the Commission, by the Division of Investment Management, under delegated authority.
Sherry R. Haywood,
Assistant Secretary.

[FR Doc. 2022-27913 Filed 12-22-22; 8:45 am]

BILLING CODE 8011-01-P